DEPARTMENT OF THE INTERIOR

Bureau of Ocean Energy Management

[MMAA 104000]

Outer Continental Shelf (OCS), Gulf of Mexico (GOM), Oil and Gas Lease Sales Eastern Planning Area (EPA) Lease Sales 225 and 226

AGENCY: Bureau of Ocean Energy Management (BOEM), Interior.

ACTION: Notice of Availability (NOA) of a Final Environmental Impact Statement (EIS).

SUMMARY: Consistent with the regulations implementing the National Environmental Policy Act, as amended (42 U.S.C. 4321 et seq.) (NEPA), BOEM has prepared a Final EIS on oil and gas lease sales tentatively scheduled to be held in 2014 and 2016 in the EPA offshore the states of Louisiana, Mississippi, Alabama, and Florida. Under the Outer Continental Shelf Oil & Gas Leasing Program: 2012-2017 (Five-Year Program), two lease sales are scheduled for the EPA. The proposed EPA lease sales are Lease Sales 225 and 226.

SUPPLEMENTARY INFORMATION: This Final EIS provides information on the baseline conditions and potential environmental effects of oil and natural gas leasing, exploration, development, and production in the EPA. The Final EIS incorporates by reference the analysis presented in the Gulf of Mexico OCS Oil and Gas Lease Sales: 2012-2017; Western Planning Area Lease Sales 229, 233, 238, 246, and 248; Central Planning Area Lease Sales 227, 231, 235, 241, and 247, Final Environmental Impact Statement (2012-2017 WPA/CPA Multisale EIS; OCS EIS/EA BOEM 2012-019) and Gulf of Mexico OCS Oil and Gas Lease Sales: 2013-2014; Western Planning Area Lease Sale 233; Central Planning Area Lease Sale 231, Final Supplemental Environmental Impact Statement (WPA 233/CPA 231 Supplemental EIS; OCS EIS/EA BOEM 2013-0118). The Final EIS also tiers from the Outer Continental Shelf Oil and Gas Leasing Program: 2012-2017 Final Programmatic Environmental Impact Statement (OCS EIS/EA BOEM 2012-030). Subject matter experts surveyed scientific journals and available scientific data, gathered information, and interviewed personnel from academic institutions and Federal, State, and local government agencies. BOEM has examined the potential impacts of routine activities, potential accidental events, and the incremental contribution of a proposed lease sale to the cumulative impacts on environmental and socioeconomic resources. BOEM conducted an extensive search for new information in consideration of the Deepwater Horizon explosion, oil spill, and response. BOEM has also examined the potential impacts of a low-probability catastrophic event. The oil and gas resource estimates and scenario information for this Final EIS are presented as a range that would encompass the resources and activities estimated for an EPA proposed lease sale.

Final EIS Availability: BOEM has printed and will be distributing a limited number of paper copies. In keeping with the Department of the Interior's mission of the protection of natural resources and to limit costs while ensuring availability of the document to the public, BOEM will primarily distribute digital copies of this Final EIS on compact discs. However, if you require a paper copy, BOEM will provide one upon request if copies are still available.

1. You may obtain a copy of the Final EIS from the Bureau of Ocean Energy Management, Gulf of Mexico OCS Region, Public Information Office (GM 335A), 1201 Elmwood Park Boulevard, Room 250, New Orleans, Louisiana 70123-2394 (1-800-200-GULF).

2. You may download or view the Final EIS on BOEM's Internet Web site at http://www.boem.gov/Environmental-Stewardship/Environmental-Assessment/NEPA/nepaprocess.aspx.

Several libraries along the Gulf Coast have been sent copies of the Final EIS. To find out which libraries have copies of the Final EIS for review, you may contact BOEM's Public Information Office or visit BOEM's Internet Web site at http://www.boem.gov/Environmental-Stewardship/Environmental-Assessment/NEPA/nepaprocess.aspx.

FOR FURTHER INFORMATION CONTACT: For more information on the Final EIS, you may contact Mr. Gary D. Goeke, Chief, Environmental Assessment Section, Office of Environment (GM 623E), Bureau of Ocean Energy Management, Gulf of Mexico OCS Region, 1201 Elmwood Park Boulevard, New Orleans, Louisiana 70123-2394 or by email at boemegomeis@BOEM.gov. You may also contact Mr. Goeke by telephone at (504) 736-3233.

Authority: This NOA is published pursuant to the regulations (40 CFR 1503) implementing the provisions of NEPA, as amended (42 U.S.C. 4321 et seq. [1988]).

Dated: September 19, 2013.
Tommy P. Beaudreau,
Director, Bureau of Ocean Energy Management.

[FR Doc. 2013-24690 Filed 10-21-13; 8:45 am]

BILLING CODE 4310-MR-P